DEPARTMENT OF COMMERCE

National Oceanic and Atmospheric Administration

[RTID 0648-XD036]

North Pacific Fishery Management Council; Public Meetings

AGENCY: National Marine Fisheries Service (NMFS), National Oceanic and Atmospheric Administration (NOAA), Commerce.

ACTION: Notice of hybrid conference.

SUMMARY: The North Pacific Fishery Management Council (Council) and its advisory committees will meet June 5, 2023 through June 11, 2023, in Sitka, AK.

DATES: The Council's Scientific and Statistical Committee (SSC) will begin at 8 a.m. in the auditorium on Monday, June 5, 2023, and continue through Wednesday, June 5, 2023. The Council's Advisory Panel (AP) will begin at 8 a.m. in room 6 on Tuesday, June 6, 2023, and continue through Thursday, June 8, 2023. The Council will begin at 8 a.m. in the auditorium on Thursday, June 8, 2023, and continue through Sunday, June 11, 2023. All times listed are Alaska Time.

ADDRESSES: The meetings will be a hybrid conference. The in-person component of the meeting will be held at the Harrigan Centennial Hall, 330 Harbor Drive, Sitka, AK 99835, or join the meeting online through the links at https://www.npfmc.org/upcoming-council-meetings.

Council address: North Pacific Fishery Management Council, 1007 W 3rd Ave., Anchorage, AK 99501-2252; telephone: (907) 271-2809. Instructions for attending the meeting via webconference are given under Connection Information below.

FOR FURTHER INFORMATION CONTACT: Diana Evans, Council staff; email: diana.evans@noaa.gov; telephone: (907) 271-2809. For technical support, please contact our Council administrative staff; email: npfmc.admin@noaa.gov.

SUPPLEMENTARY INFORMATION:

Agenda

Monday, June 5, 2023, Through Wednesday, June 7, 2023

The SSC agenda will include the following issues:

1. Discussion of potential meeting cycle adjustments

2. Presentation on revised National Standard 1 guidelines

3. Bering Sea and Aleutian Island (BSAI) Crab harvest specifications—review and recommendations for the Stock Assessment and Fishery Evaluation (SAFE) report, acceptable biological catch and overfishing limits (ABC/OFLs), Plan Team report

4. Observer reports—review Observer Annual Report for 2022

5. Bristol Bay Red King Crab (BBRKC) closure areas—Initial review

6. Crew data collection discussion paper—Review

The SSC will also meet in Executive Session on Monday morning, to discuss internal administrative issues. The agenda is subject to change, and the latest version will be posted at https://meetings.npfmc.org/Meeting/Details/2994 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Tuesday, June 6, 2023, Through Thursday, June 9, 2023

The Advisory Panel agenda will include the following issues:

1. Crab C share recent participation requirement—Initial review

2. BSAI Crab harvest specifications—SAFE report, ABC/OFLs, Plan Team report

3. Observer reports—review (a) Observer Annual Report for 2022; (b) partial coverage cost efficiencies report, and (c) Partial Coverage Fishery Monitoring Advisory Committee (PCFMAC) and Fishery Monitoring Advisory Committee (FMAC) reports

4. BBRKC closure areas—Initial review

5. Small sablefish release staff update—Review

6. Programmatic Environmental Impact Statement (EIS)—Consider purpose and need, alternatives; Ecosystem Committee Report

7. Staff Tasking, including discussion of potential meeting cycle adjustments

The agenda is subject to change, and the latest version will be posted at https://meetings.npfmc.org/Meeting/Details/2993 prior to the meeting, along with meeting materials.

Thursday, June 8, 2023, Through Sunday, June 11, 2023

The Council agenda will include the following issues. The Council may take appropriate action on any of the issues identified.

1. B Reports (Executive Director, NMFS Management, NOAA General Counsel (GC), Alaska Fishery Science Center (AFSC), Alaska Department of Fish and Game (ADF&G), United States Coast Guard (USCG), United States Fish and Wildlife Service (USFWS), AP, SSC)

2. BSAI Crab harvest specifications—SAFE report, ABC/OFLs, Plan Team report

3. Observer reports—review (a) Observer Annual Report for 2022; (b) partial coverage cost efficiencies report, and (c) PCFMAC and FMAC reports

4. Crab C share recent participation requirement—Initial review

5. Small sablefish release staff update—Review

6. BBRKC closure areas—Initial review

7. Programmatic EIS—Consider purpose and need, alternatives; Ecosystem Committee report

8. Staff Tasking, including potential meeting cycle adjustments and action as necessary on crew data collection

The Council will also meet in Executive Session on Friday afternoon, to discuss internal administrative issues. The agenda is subject to change, and the latest version will be posted at https://meetings.npfmc.org/Meeting/Details/2993 prior to the meeting, along with meeting materials.

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/upcoming-council-meetings/.

Public Comment

Public comment letters will be accepted and should be submitted electronically through the links at https://www.npfmc.org/upcoming-council-meetings. The Council strongly encourages written public comment for this meeting, to avoid any potential for technical difficulties to compromise oral testimony. The written comment period is open from May 12, 2023, to June 2, 2023, and closes at 12 p.m. Alaska Time on Friday, June 2, 2023.

Although other non-emergency issues not on the agenda may come before this group for discussion, those issues may not be the subject of formal action during this meeting. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: May 17, 2023.
Rey Israel Marquez,
Acting Deputy Director, Office of Sustainable Fisheries, National Marine Fisheries Service.

[FR Doc. 2023-10867 Filed 5-19-23; 8:45 am]

BILLING CODE 3510-22-P